DEPARTMENT OF TRANSPORTATION

Federal Aviation Administration

Proposed Advisory Circular; Turbine Engine Continued Rotation and Rotor Locking

AGENCY: Federal Aviation Administration, DOT.

ACTION: Notice of availability of proposed advisory circular and request for comments.

SUMMARY: This notice announces the availability and request for comments of draft Advisory Circular (AC), No. 33.74/92-1A, Turbine Engine Continued Rotation and Rotor Locking.

DATES: Comments must be received on or before September 23, 2002.

ADDRESSES: Send all comments on the proposed AC to the Federal Aviation Administration, Attn: Marc Bouthillier, Engine and Propeller Standards Staff, ANE-110, Engine and Propeller Directorate, Aircraft Certification Service, 12 New England Executive Park, Burlington, MA 01803-5299.

FOR FURTHER INFORMATION CONTACT: Marc Bouthillier, Engine and Propeller Standards Staff, ANE-100, at the above address, telephone (781) 238-7120, fax (781) 238-7199. If you have access to the Internet, you may also obtain further information by writing to the following address: “marc.bouthillier@faa.gov.”

SUPPLEMENTARY INFORMATION:

Comments Invited

A copy of the draft AC may be obtained by contacting the person named under FOR FURTHER INFORMATION CONTACT, or Internet users may obtain a copy at the following address: “http://www.airweb.faa.gov/rgl.” Interested persons are invited to comment on the proposed AC, and to submit such written data, views, or arguments as they desire. Commenters must identify the subject of the AC, and submit comments to the address specified above. All communications received on or before the closing date for comments will be considered by the Engine and Propeller Directorate, Aircraft Certification Service, before issuance of the final AC.

Background

This draft advisory circular (AC) would provide guidance and acceptable methods, but not the only methods that may be used to demonstrate compliance with the continued rotation and rotor locking requirements. This AC would combine §§ 33.74 and 33.92.

This advisory circular would be published under the authority granted to the Administrator by 49 U.S.C. 106(g), 40113, 44701-44702, 44704, and would provide guidance for the requirements in 14 CFR part 33.

Issued in Burlington Massachusetts on June 28, 2002.
Francis Favara,
Assistant Manager, Engine and Propeller Directorate, Aircraft Certification Service.

[FR Doc. 02-18473 Filed 7-22-02; 8:45 am]

BILLING CODE 4910-13-M